DEPARTMENT OF THE INTERIOR

National Park Service

[N6465; NPS-WASO-NAGPRA-NPS0040885; PPWOCRADN0-PCU00RP14.R50000]

Notice of Inventory Completion: Salt River Project Agricultural Improvement and Power District, Phoenix, AZ

AGENCY: National Park Service, Interior.

ACTION: Notice.

SUMMARY: In accordance with the Native American Graves Protection and Repatriation Act (NAGPRA), the Salt River Project Agricultural Improvement and Power District has completed an inventory of human remains and associated funerary objects and has determined that there is a cultural affiliation between the human remains and associated funerary objects and Indian Tribes or Native Hawaiian organizations in this notice.

DATES: Repatriation of the human remains and associated funerary objects in this notice may occur on or after September 22, 2025.

ADDRESSES: Send written requests for repatriation of the human remains and associated funerary objects in this notice to Marissa Sotomayor, Salt River Project Agricultural Improvement and Power District, PAB355, P.O. Box 52025, Phoenix, AZ 85072-2025, email Marissa.Sotomayor@srpnet.com.

SUPPLEMENTARY INFORMATION: This notice is published as part of the National Park Service's administrative responsibilities under NAGPRA. The determinations in this notice are the sole responsibility of the Salt River Project Agricultural Improvement and Power District, and additional information on the determinations in this notice, including the results of consultation, can be found in its inventory or related records. The National Park Service is not responsible for the determinations in this notice.

Abstract of Information Available

Human remains representing, at least, one individual has been identified. The two associated funerary objects are ceramic vessels: one ceramic burial urn containing the remains of the individual and one ceramic bowl. The individual is of indeterminate age and sex. Based on the information available, the human remains of one individual and two associated funerary objects were removed from a site in Arizona, Maricopa County, by Audie Russell Kelley (b. 1907 d. 1954); the date of removal is unknown. The collection was previously in the possession of archaeologist Audie Russell Kelley and was sold to the Salt River Project in 1973 by his wife, Peggy Kelley, following his death.

Salt River Project records indicate no known hazardous substances used to treat any of the human remains or associated funerary objects.

Cultural Affiliation

Based on the information available and the results of consultation, cultural affiliation is clearly identified by the information available about the human remains and associated funerary objects described in this notice.

Determinations

The Salt River Agricultural Improvement and Power District has determined that:

• The human remains described in this notice represent the physical remains of one individual of Native American ancestry.

• The two objects described in this notice are reasonably believed to have been placed intentionally with or near individual human remains at the time of death or later as part of the death rite or ceremony.

• There is a connection between the human remains and associated funerary objects described in this notice and the Gila River Indian Community of the Gila River Indian Reservation, Arizona and the Salt River Pima-Maricopa Indian Community of the Salt River Reservation, Arizona.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 22, 2025. If competing requests for repatriation are received, the Salt River Agricultural Improvement and Power District must determine the most appropriate requestor prior to repatriation. Requests for joint repatriation of the human remains and associated funerary objects are considered a single request and not competing requests. The Salt River Project Agricultural Improvement and Power District is responsible for sending a copy of this notice to the Indian Tribes and Native Hawaiian organizations identified in this notice and any other consulting parties.

Authority: Native American Graves Protection and Repatriation Act, 25 U.S.C. 3003, and the implementing regulations, 43 CFR 10.10.

Dated: August 13, 2025.
Melanie O'Brien,
Manager, National NAGPRA Program.

[FR Doc. 2025-16122 Filed 8-21-25; 8:45 am]

BILLING CODE 4312-52-P